DEPARTMENT OF TRANSPORTATION

Federal Aviation Administration

14 CFR Part 39

[Docket No. FAA-2018-1009; Product Identifier 2018-NM-147-AD; Amendment 39-19595; AD 2019-05-13]

RIN 2120-AA64

Airworthiness Directives; Airbus SAS Airplanes

AGENCY: Federal Aviation Administration (FAA), DOT.

ACTION: Final rule; removal of Airworthiness Directives (ADs).

SUMMARY: We are removing AD 2007-22-05 and AD 2013-13-13 (referred to after this as “the affected ADs”), which applied to Airbus SAS Model A300-600 and A310 series airplanes. The affected ADs required certain actions to address various unsafe conditions. The affected ADs are no longer necessary because we have since issued other ADs to address these unsafe conditions. Accordingly, we are removing the affected ADs.

DATES: This AD is effective March 21, 2019.

ADDRESSES:

Examining the AD Docket

You may examine the AD docket on the internet at http://www.regulations.gov by searching for and locating Docket No. FAA-2018-1009; or in person at Docket Operations between 9 a.m. and 5 p.m., Monday through Friday, except Federal holidays. The AD docket contains this final rule, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone and fax 206-231-3225.

SUPPLEMENTARY INFORMATION:

Discussion

We issued a notice of proposed rulemaking (NPRM) to amend 14 CFR part 39 by adding an AD that would apply to Airbus SAS Model A300-600 and A310 series airplanes, identified in the following affected ADs. The NPRM published in the Federal Register on December 28, 2018 (83 FR 67156). The NPRM was prompted by a determination that the affected ADs are no longer necessary because we have since issued other ADs to address the various unsafe conditions. The NPRM proposed to remove the affected ADs. We are issuing this AD to remove the affected ADs, which have been terminated by other ADs.

Affected ADs and the AD(s) That Terminates the Affected ADs
Affected AD | Affected models | AD(s) that terminates the affected AD
AD 2007-22-05, Amendment 39-15241 (72 FR 60236, October 24, 2007) | A300-600 series airplanes | AD 2018-01-07, Amendment 39-19148 (83 FR 2042, January 16, 2018) (“AD 2018-01-07”).
AD 2013-13-13, Amendment 39-17501 (79 FR 48957, August 19, 2014) | A300-600 and A310 series airplanes | AD 2017-21-08, Amendment 39-19079 (82 FR 48904, October 23, 2017); and AD 2018-01-07.

Comments

We gave the public the opportunity to participate in developing this final rule. We received no comments on the NPRM or on the determination of the cost to the public.

Conclusion

We reviewed the relevant data and determined that air safety and the public interest require adopting this final rule as proposed, except for minor editorial changes. We have determined that these minor changes:

• Are consistent with the intent that was proposed in the NPRM for addressing the unsafe condition; and

• Do not add any additional burden upon the public than was already proposed in the NPRM.

Costs of Compliance

This AD adds no cost. This AD removes the affected ADs from 14 CFR part 39; therefore, operators are no longer required to show compliance with the affected ADs.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 2007-22-05, Amendment 39-15241 (72 FR 60236, October 24, 2007) and AD 2013-13-13, Amendment 39-17501 (79 FR 48957, August 19, 2014); and adding the following new AD:

2019-05-13 Airbus SAS: Amendment 39-19595; Docket No. FAA-2018-1009; Product Identifier 2018-NM-147-AD.

(a) Effective Date

This AD is effective March 21, 2019.

(b) Affected ADs

This AD removes AD 2007-22-05, Amendment 39-15241 (72 FR 60236, October 24, 2007) and AD 2013-13-13, Amendment 39-17501 (79 FR 48957, August 19, 2014).

(c) Applicability

This AD applies to Model A300-600 and A310 series airplanes.

(d) Related Information

For more information about this AD, contact Dan Rodina, Aerospace Engineer, International Section, Transport Standards Branch, FAA, 2200 South 216th St., Des Moines, WA 98198; telephone and fax 206-231-3225.

Issued in Des Moines, Washington, on March 13, 2019.
Michael Kaszycki,
Acting Director, System Oversight Division, Aircraft Certification Service.

[FR Doc. 2019-05278 Filed 3-20-19; 8:45 am]

BILLING CODE 4910-13-P